DEPARTMENT OF THE INTERIOR

National Indian Gaming Commission

Notice of Approved Class III Tribal Gaming Ordinance

AGENCY: National Indian Gaming Commission.

ACTION: Notice.

SUMMARY: The purpose of this notice is to inform the public of the approval of the Confederated Tribes of Siletz Indians of Oregon Class III gaming ordinance by the Chairman of the National Indian Gaming Commission.

DATES: This notice is applicable September 1, 2023.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On July 10, 2023, the Chairman of the National Indian Gaming Commission approved the Confederated Tribes of Siletz Indians of Oregon Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: July 13, 2023.
Rea Cisneros,
General Counsel (Acting).

July 10, 2023

VIA E-MAIL

Chairman Delores Pigsley

Siletz Tribal Council

Confederated Tribes of Siletz Indians of Oregon

201 SE Swan Ave.

P.O. Box 549

Siletz, OR 97380

Re: Amended Gaming Ordinance

Dear Chairman Pigsley:

This letter responds to your request for the National Indian Gaming Commission (“NIGC”) Chairman to review and approve the Confederated Tribes of Siletz Indians of Oregon's amended Gaming Ordinance (“Ordinance”). The Siletz Tribal Council adopted an amended Ordinance by Resolution 2023-179 on May 19, 2023.

Thank you for bringing the Ordinance to our attention and for providing us with a copy. The Ordinance is approved as it is consistent with the Indian Gaming Regulatory Act and NIGC regulations.

If you have any questions or require anything further, please contact Staff Attorney Adam L. Candler at 202-580-5718 or by email at adam.candler@nigc.gov.

Sincerely,

E. Sequoyah Simermeyer NIGC Chairman

cc: Katie Gargan, Siletz Tribal Attorney

[FR Doc. 2023-18982 Filed 8-31-23; 8:45 am]

BILLING CODE 7565-01-P